DEPARTMENT OF TRANSPORTATION

National Highway Traffic Safety Administration

[U.S. DOT Docket No. NHTSA-2017-0089]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before May 8, 2018.

ADDRESSES: You may submit comments identified by DOT Docket ID Number NHTSA-2017-0089 using any of the following methods:

Electronic submissions: Go to http://www.regulations.gov. Follow the on-line instructions for submitting comments.

Mail: Docket Management Facility, M-30, U.S. Department of Transportation, 1200 New Jersey Avenue SE, West Building Ground Floor, Room W12-140, Washington, DC 20590.

Hand Delivery: West Building Ground Floor, Room W12-140, 1200 New Jersey Avenue SE, Washington, DC, between 9 a.m. and 5 p.m., Monday through Friday, except Federal holidays. Fax: 1-(202) 493-2251.

Instructions: Each submission must include the Agency name and the Docket number for this Notice. Note that all comments received will be posted without change to http://www.regulations.gov including any personal information provided.

FOR FURTHER INFORMATION CONTACT: Kathryn Wochinger, Contracting Officer's Representative, DOT/NHTSA (NPD-310), 1200 New Jersey Avenue SE, W46-487, Washington, DC 20590. Dr. Wochinger's phone number is (202) 366-4300 and email address is kathryn.wochinger@dot.gov.

SUPPLEMENTARY INFORMATION:

OMB Clearance Number: None.

Title: National Survey of Drinking, Drug Use, and Driving Attitudes and Behaviors.

Type of Request: New information collection requirement.

Requested Expiration Date of Approval: 3 years from date of approval.

Summary of the Collection of Information: NHTSA has periodically conducted a national survey of driver attitudes and self-reported behavior on drinking and driving, to understand the prevalence of drinking and driving among drivers, the perception of impaired driving as a traffic safety problem, and driver awareness and attitudes towards impaired driving laws. NHTSA and others have used the data to track national trends in the drinking-driving problem and assess the impact of countermeasures to reduce impaired driving.

The survey was last administered in 2008, and NHTSA is preparing to administer an updated version of the survey, referred to as the National Survey on Drinking, Drug Use and Driving (NSDDD). The survey will continue to address alcohol but will add items on drugs other than alcohol. The survey will replace the previously used telephone interviews with an online and mailed questionnaire; respondents will complete either the internet or paper surveys.

Description of the Need for the Information and Proposed Use of the Information

NHTSA's mission is to save lives, prevent injuries and reduce traffic-related health care and other economic costs. The agency develops, promotes and implements educational, engineering and enforcement programs with the goal of ending preventable tragedies and reducing economic costs associated with vehicle use and highway travel. Impaired driving is a long-standing highway safety and public health problem. Efforts to reduce impaired driving have resulted in impressive improvements, but it remains a significant problem. For example, data compiled and analyzed by NHTSA show that in 2016, 10,497 people died in alcohol-impaired-driving crashes, accounting for 28 percent of all motor vehicle traffic fatalities in the United States. An alcohol-impaired-driving crash are those that involve a driver with a blood alcohol concentration (BAC) of 0.08 grams per deciliter (g/dL) or higher. In addition to concern about alcohol-impaired driving, there are increasing questions regarding drug-impaired driving.

The objectives of the project include the following:

• To survey a nationally representative sample of driving-age individuals on their knowledge, attitudes and beliefs about drinking, drug use (including over-the-counter, prescription, and illegal drugs) and alcohol- and drug-positive/impaired driving;

• To assess the public's awareness, acceptance and opinions of laws on alcohol-involved and drugged driving;

• To obtain information helpful in the monitoring of progress in impaired driving safety programs and revealing areas that require further attention; and

• To add to the knowledge base supporting NHTSA's responsibilities for providing a sound scientific basis for the development of countermeasure programs.

Description of the Likely Respondents (Including Estimated Number, and Proposed Frequency of Response to the Collection of Information): The potential respondents would be people aged 18 years or older who drive a passenger vehicle at least periodically. NHTSA would contact a maximum of 30,000 households via United States mail to obtain 7,000 completed questionnaires. The contact would consist of a screening instrument to determine survey eligibility. Eligible respondents would a member of the household who is at least 18 years of age and has driven at least once in the previous two weeks. A respondent would complete a single survey only; there will be no request for follow-up information or response.

Privacy Protections. Throughout the project, the privacy of all households and participants will be protected. Access to the online instrument will be controlled using an alphanumeric PIN, with access restricted to using encrypted connection via Secure Socket Layer (SSL) certificates. Personally-identifiable information such as the postal address of sample members will be kept separate from the data collected, and stored in restricted folders on secure password-protected servers that are only accessible to study staff who have need to access them. The study data will be reported in aggregate only, and identifying information would not be used in any reports resulting from this data collection effort.

Total Estimated Time per Response. The expected average duration for the respondent selection is 0.10 hours (6 minutes) per respondent. The expected average duration to complete the online or paper questionnaire is 0.33 hours (20 minutes).

Total Estimated Annual Burden Hours. Of the 30,000 sampled addresses, NHTSA estimates that 9,348 respondents will complete the screening process at 0.10 hours per respondent, resulting in 935 annualized burden hours; and that 7,004 respondents will take the survey, resulting in 2,311 annualized burden hours. The participants would not incur any reporting cost from the information collection. The participants would also not incur any record keeping burden or record keeping cost from the information collection.

Authority: 44 U.S.C. Section 3506(c)(2)(A).

Issued in Washington, DC, on March 6, 2018.
Jeff Michael,
Associate Administrator, Research and Program Development.

[FR Doc. 2018-04750 Filed 3-8-18; 8:45 am]

BILLING CODE 4910-59-P